DEPARTMENT OF THE INTERIOR

Bureau of Land Management

[LLCAD06000-L16100000]

Notice of Availability of Draft South Coast Resource Management Plan Amendment and Draft Environmental Impact Statement for the Santa Ana River Wash Land Exchange, California

AGENCY: Bureau of Land Management, Interior.

ACTION: Notice of Availability.

SUMMARY: In accordance with the National Environmental Policy Act of 1969 (NEPA) and the Federal Land Policy and Management Act of 1976 (FLPMA), the Bureau of Land Management (BLM) has prepared a Draft South Coast Resource Management Plan Amendment and Draft Environmental Impact Statement (EIS) for the Santa Ana River Wash Land Exchange and by this Notice is announcing the opening of the comment period.

DATES: To ensure comments will be considered, the BLM must receive written comments on the Draft EIS within 90 days following the date the Environmental Protection Agency publishes its Notice of Availability in the Federal Register. The BLM will announce future meetings or hearings and any other public involvement activities at least 15 days in advance through public notices, media news releases, and/or mailings.

ADDRESSES: You may submit comments by any of the following methods:

Web Site: http://www.blm.gov/ca/palmsprings.

• E-mail: mbennett@ca.blm.gov.

• Fax: (760) 833-7199.

• Mail: Bureau of Land Management, Palm Springs-South Coast Field Office, 1201 Bird Center Drive, Palm Springs, CA 92262.

Copies of the Draft South Coast Resource Management Plan Amendment and Draft Environmental Impact Statement (EIS) for the Santa Ana Wash Land Exchange are available for review at the Palm Springs-South Coast Field Office and via the Internet at http://www.blm.gov/ca/palmsprings. Electronic (on CD-ROM) or paper copies may also be obtained by contacting Michael Bennett at the addresses and phone number below. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Michael Bennett; Bureau of Land Management, Palm Springs-South Coast Field Office, 1201 Bird Center Drive, Palm Springs, CA 92262; (760) 833-7139; mbennett@blm.gov.

SUPPLEMENTARY INFORMATION: The Draft EIS analyzes a proposed exchange of ownership of approximately 315 acres of BLM land with approximately 320 acres of land owned by the San Bernardino Valley Water Conservation District (District), and the amendment of the South Coast Resource Management Plan (SCRMP) to support this exchange. Additional lands, including up to 85 acres of BLM lands (Federal lands managed by the BLM) and up to 60 acres of District land, will be exchanged if necessary to equalize values. The lands proposed for exchange are located within the Santa Ana River Wash in southwestern San Bernardino County, California. A primary purpose of the exchange is for the BLM to dispose of isolated lands which have been previously degraded by mining activities within the Santa Ana River Wash ACEC, and in exchange, to acquire District lands with high habitat value. Lands acquired by the BLM through the proposed exchange would be given the ACEC land use designation. These lands would also become part of the planned multi-jurisdictional, multi-species Habitat Conservation Area (HCA) described in the 2008 Upper Santa Ana River Wash Land Management and Habitat Conservation Plan (Wash Plan). Of the lands acquired by the District, approximately 259 acres would be leased for mining and approximately 56 acres would be set aside for habitat conservation. This action would fulfill the need for a comprehensive solution to competitive land uses within the Wash Plan Area by preserving unique habitats under the BLM ACEC while allowing mineral development and other uses to occur in predominantly disturbed areas. These Federal actions are analyzed in the Draft EIS. A Record of Decision for the proposed land exchange and plan amendment will be prepared following the Final EIS in accordance with the planning regulations at 43 CFR 1610 and the NEPA, 42 U.S.C. 4321 et seq. The Notice of Intent to publish this EIS was published in the Federal Register on April 26, 2004. Public workshops and scoping meetings were held in the cities of Highland and Redlands in May 2004. Predominant issues identified so far include threatened, endangered, and other special status species, mineral resources, water resources, recreation, visual resources, cultural resources, land management, and traffic management.

Authority: 40 CFR 1506.6, 43 CFR 1610.2.

John R. Kalish,
Field Manager.

[FR Doc. E9-17574 Filed 7-23-09; 8:45 am]

BILLING CODE 4310-40-P